DEPARTMENT OF DEFENSE

Office of the Secretary

[Docket ID: DOD-2011-OS-0065]

Privacy Act of 1974; System of Records

AGENCY: Office of the Secretary, DoD.

ACTION: Notice to Alter a System of Records.

SUMMARY: The Office of the Secretary of Defense proposes to alter a system of records in its inventory of record systems subject to the Privacy Act of 1974 (5 U.S.C. 552a), as amended.

DATES: This proposed action would be effective without further notice on July 18, 2011 unless comments are received which result in a contrary determination.

ADDRESSES: You may submit comments, identified by docket number and/Regulatory Information Number (RIN) and title, by any of the following methods:

* Federal Rulemaking Portal: http://www.regulations.gov. Follow the instructions for submitting comments.

* Mail: Federal Docket Management System Office, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Services, 1155 Defense Pentagon, Washington, DC 20301-1155 or by phone at (703) 588-6830.

SUPPLEMENTARY INFORMATION: The Office of the Secretary of Defense notices for systems of records subject to the Privacy Act of 1974 (5 U.S.C. 552a), as amended, have been published in the Federal Register and are available from the address in FOR FURTHER INFORMATION CONTACT.

The proposed system report, as required by 5 U.S.C. 552a(r) of the Privacy Act of 1974, as amended, was submitted on June 8, 2011, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: June 8, 2011.
Aaron Siegel,
Alternate OSD Federal Register Liaison Officer, Department of Defense.

DHA 10

System name:

DoD Women, Infants, and Children Overseas Participant Information Management System (November 18, 2004, 69 FR 67547).

Changes:

* * * * *

System location:

Delete entry and replace with “Choctaw Archiving Enterprise, Suite 308, 2161 NW.Military Highway, San Antonio, TX 78213-1844 and at DoD installations outside the United States (and its territories and possessions). For a complete listing of facility addresses that maintain records, please contact the system manager.”

Categories of individuals covered by the system:

Delete entry and replace with “Members of the Armed Forces and eligible civilians serving with, employed by or accompanying the Armed Forces outside the United States (and its territories and possessions) and their family members who are eligible for the DoD Women, Infants, and Children Overseas Program.”

Categories of records in the system:

Delete entry and replace with “Records consist of the individual or sponsor name, Social Security Number (SSN) and/or DoD identification (ID) number, current address, income information, nutritional/medical history data, and data on whether participants received nutritional education and counseling.”

Authority for maintenance of the system:

Delete entry and replace with “10 U.S.C. 1060a, Special Supplemental Food Program; 42 U.S.C. Chapter 13A, Child Nutrition; 32 CFR 199.23, Civilian Health and Medical Program of the Uniformed Services (CHAMPUS), Special Supplemental Food; HA Policy 09-004, Policy Memorandum for Women, Infants, and Children Overseas Program, Under Secretary of Defense, Personnel and Readiness; and E.O. 9397 (SSN), as amended.”

Purpose(s):

Delete entry and replace with “DoD implements the Women Infants and Children (WIC) program for members of the Armed Forces or eligible civilians serving with, employed by or accompanying the Armed Forces outside the United States (and its territories and possessions) and their family members who are eligible for the DoD Women, Infants, and Children Overseas Program. The program provides eligible participants with supplemental nutritious food, nutrition counseling and education, and nutrition-health screening.”

* * * * *

Storage:

Delete entry and replace with “Paper file folders and electronic storage media.”

Retrievability:

Delete entry and replace with “Access and retrieval of information is by the sponsor's name, SSN and/or DoD ID number; or the participant's name, SSN, and/or DoD ID number.”

Safeguards:

Delete entry and replace with “Records are maintained in access controlled facilities. Physical entry is restricted by use of locks, guards, or administrative procedures to officials that require access to perform their official duties consistent with the purpose of the collection of the information. Proper data protection training is required for all personnel with official duties that require access to, and use of, the information. Computer terminals are located in supervised areas with access control. The system provides two-factor authentication, using either a Common Access Card (CAC) and personal identification number or a unique logon identification and password. Passwords must be frequently changed.”

Retention and disposal:

Delete entry and replace with “Disposition pending (treat records as permanent until the National Archives and Records Administration approves the proposed retention and disposition).”

System manager(s) and address:

Delete entry and replace with “Program Manager, WIC Overseas Program, TRICARE Management Activity, Policy and Operations Directorate, Skyline 5, Suite 810, 5111 Leesburg Pike, Falls Church, VA 22041-3206.”

Notification procedure:

Delete entry and replace with “Individuals seeking to determine whether information about themselves is contained in this system of records should address written inquiries to the TRICARE Management Activity, Department of Defense, ATTN: TMA Privacy Officer, Skyline 5, Suite 810, 5111 Leesburg Pike, Falls Church, VA 22041-3206.

Requests must contain participant's and/or sponsor's full name, SSN and/or DoD ID number, current address, and telephone number.”

Record access procedures:

Delete entry and replace with “Individuals seeking access to information about themselves contained in this system of records should address written inquiries to the TRICARE Management Activity, Attention: Freedom of Information Act Requester Service Center, 16401 East Centretech Parkway, Aurora, CO 80011-9066.

Written requests must contain participant's and/or sponsor's full name, SSN and/or DoD ID number, current address, telephone number, name and number of this system of records notice, and be signed.”

* * * * *

Record source categories:

Delete entry and replace with “Individuals applying for the program benefits.”

* * * * *

DHA 10

System name:

DoD Women, Infants, and Children Overseas Participant Information Management System.

System location:

Choctaw Archiving Enterprise, Suite 308, 2161 NW Military Highway, San Antonio, TX 78213-1844 and at DoD installations outside the United States (and its territories and possessions). For a complete listing of facility addresses that maintain records, please contact the system manager.

Categories of individuals covered by the system:

Members of the Armed Forces and eligible civilians serving with, employed by or accompanying the Armed Forces outside the United States (and its territories and possessions) and their family members who are eligible for the DoD Women, Infants, and Children Overseas Program.

Categories of records in the system:

Records consist of the individual or sponsor name, Social Security Number (SSN) and/or DoD identification (ID) number, current address, income information, nutritional/medical history data, and data on whether participants received nutritional education and counseling.

Authority for maintenance of the system:

10 U.S.C. 1060a, Special Supplemental Food Program; 42 U.S.C. Chapter 13A, Child Nutrition; 32 CFR 199.23, Civilian Health and Medical Program of the Uniformed Services (CHAMPUS), Special Supplemental Food; HA Policy 09-004, Policy Memorandum for Women, Infants, and Children Overseas Program, Under Secretary of Defense, Personnel and Readiness; and E.O. 9397 (SSN), as amended.

Purpose(s):

DoD implements the Women Infants and Children (WIC) program for members of the Armed Forces or eligible civilians serving with, employed by or accompanying the Armed Forces outside the United States (and its territories and possessions) and their family members who are eligible for the DoD Women, Infants, and Children Overseas Program. The program provides eligible participants with supplemental nutritious food, nutrition counseling and education, and nutrition-health screening.

Routine uses of records maintained in the system, including categories of users and the purposes of such uses:

In addition to those disclosures generally permitted under 5 U.S.C. 552a(b) of the Privacy Act of 1974, these records may specifically be disclosed outside of the DoD as a routine use pursuant to 5 U.S.C. 552a(b)(3).

The DoD `Blanket Routine Uses' set forth at the beginning of the Office of the Secretary of Defense (OSD) compilation of systems of records notices apply to this system.

Policies and practices for storing, retrieving, accessing, retaining, and disposing of records in the system:

Storage:

Paper file folders and electronic storage media.

Retrievability:

Access and retrieval of information is by the sponsor's name, SSN and/or DoD ID number; or the participant's name, SSN, and/or DoD ID number.

Safeguards:

Records are maintained in access controlled facilities. Physical entry is restricted by use of locks, guards, or administrative procedures to officials that require access to perform their official duties consistent with the purpose of the collection of the information. Proper data protection training is required for all personnel with official duties that require access to, and use of, the information. Computer terminals are located in supervised areas with access control. The system provides two-factor authentication, using either a Common Access Card (CAC) and personal identification number or a unique logon identification and password. Passwords must be frequently changed.

Retention and disposal:

Disposition pending (treat records as permanent until the National Archives and Records Administration approves the proposed retention and disposition).

System manager(s) and address:

Program Manager, WIC Overseas Program, TRICARE Management Activity, Policy and Operations Directorate, Skyline 5, Suite 810, 5111 Leesburg Pike, Falls Church, VA 22041-3206.

Notification procedure:

Individuals seeking to determine whether information about themselves is contained in this system of records should address written inquiries to the TRICARE Management Activity, Department of Defense, ATTN: TMA Privacy Officer, Skyline 5, Suite 810, 5111 Leesburg Pike, Falls Church, VA 22041-3206.

Requests must contain participant's and/or sponsor's full name, SSN and/or DoD ID number, current address, and telephone number.

Record access procedures:

Individuals seeking access to information about themselves contained in this system of records should address written inquiries to the TRICARE Management Activity, Attention: Freedom of Information Act Requester Service Center, 16401 East Centretech Parkway, Aurora, CO 80011-9066.

Written requests must contain participant's and/or sponsor's full name, SSN and/or DoD ID number, current address, telephone number, name and number of this system of records notice, and be signed.

Contesting record procedures:

The OSD rules for accessing records, contesting contents, and appealing initial agency determinations are published in OSD Administrative Instruction 81; 32 CFR Part 311; or may be obtained from the system manager.

Record source categories:

Individuals applying for the program benefits.

Exemptions claimed for the system:

None.

[FR Doc. 2011-15017 Filed 6-16-11; 8:45 am]

BILLING CODE 5001-06-P